DEPARTMENT OF COMMERCE

International Trade Administration

[A-475-824]

Notice of Extension of the Time Limit for Preliminary Results of Antidumping Duty Administrative Review: Stainless Steel Sheet and Strip in Coils From Italy

AGENCY: Import Administration, International Trade Administration, Department of Commerce.

EFFECTIVE DATE: May 16, 2001.

FOR FURTHER INFORMATION CONTACT: Carrie Blozy, AD/CVD Enforcement Group III, Office 9, Import Administration, International Trade Administration, U.S. Department of Commerce, 14th Street and Constitution Avenue, NW., Washington, DC 20230; telephone: (202) 482-0165.

SUPPLEMENTARY INFORMATION:

The Applicable Statute

Unless otherwise indicated, all citations to the Tariff Act of 1930, as amended (the Act) are to the provisions effective January 1, 1995, the effective date of the amendments made to the Act by the Uruguay Round Agreements Act. In addition, unless otherwise indicated, all citations to the Department of Commerce's (the Department's) regulations are to 19 CFR part 351 (2000).

Background

On October 30, 2000, the Department published a notice of initiation of the administrative review of the antidumping duty order on Stainless Steel Sheet and Strip in Coils from Italy, covering the period January 4, 1999 through June 30, 2000 (65 FR 64662). On January 8, 2001, the Department extended the preliminary results of review by 90 days. See Notice of Extension of the Time Limit for Preliminary Results of Antidumping Duty Administrative Review: Stainless Steel Sheet and Strip in Coils From Italy, 66 FR 1310 (January 8, 2001). The preliminary results are currently due no later than July 1, 2001.

Extension of Time Limit for Preliminary Results

Because of the complex issues enumerated in the Memorandum from Edward C. Yang to Joseph A. Spetrini, Extension of Time Limit for the Preliminary Results of Administrative Review of Certain Stainless Steel Sheet and Strip in Coils from Italy, dated May 9, 2001, and on file in the Central Records Unit (CRU) of the Main Commerce Building, Room B-099, we find that it is not practicable to complete the preliminary results of this review by the scheduled deadline. Therefore, in accordance with section 751(a)(3)(A) of the Act, the Department is further extending the time period for issuing the preliminary results of review by 30 days (i.e., until July 31, 2001).

Dated: May 9, 2001.
Richard O. Weible,
Acting Deputy Assistant Secretary, AD/CVD Enforcement Group III.

[FR Doc. 01-12378 Filed 5-15-01; 8:45 am]

BILLING CODE 3510-DS-P